NUCLEAR REGULATORY COMMISSION

[Docket No. 52-007-ESP; ASLBP No. 04-821-01-ESP]

Exelon Generation Company, LLC, (Early Site Permit for Clinton ESP Site); Notice of Reconstitution

Pursuant to 10 CFR 2.321, the Atomic Safety and Licensing Board in the above captioned proceeding is hereby reconstituted by appointing the following Administrative Judges:

Dr. Paul B. Abramson, Chair, Atomic Safety and Licensing Board Panel, U.S. Nuclear Regulatory Commission,Washington, DC 20555-0001.

Dr. Anthony J. Baratta, Atomic Safety and Licensing Board Panel, U.S. Nuclear Regulatory Commission,Washington, DC 20555-0001.

Dr. David L. Hetrick, Atomic Safety and Licensing Board Panel, U.S. Nuclear Regulatory Commission,Washington, DC 20555-0001.

All correspondence, documents, and other materials shall be filed with the administrative judges in accordance with 10 CFR 2.302.

Issued at Rockville, Maryland this 6th day of August 2004.
G. Paul Bollwerk, III,
Chief Administrative Judge, Atomic Safety and Licensing Board Panel.

[FR Doc. 04-18432 Filed 8-11-04; 8:45 am]

BILLING CODE 7590-01-P